DEPARTMENT OF COMMERCE

National Oceanic and Atmospheric Administration

50 CFR Part 660

[Docket No. 1511169999493-03]

RIN 0648-BF52

Fisheries Off West Coast States; Pacific Coast Groundfish Fishery; Electronic Monitoring Program; Correction

AGENCY: National Marine Fisheries Service (NMFS), National Oceanic and Atmospheric Administration (NOAA), Commerce.

ACTION: Final rule; correction.

SUMMARY: NMFS published a final rule on June 28, 2019, to implement an electronic monitoring (EM) program for catcher vessels in the Pacific whiting fishery and fixed gear vessels in the shorebased groundfish Individual Fishing Quota (IFQ) fishery. The final rule established an application process for interested vessel owners; performance standards for EM systems; requirements for vessel operators; a permitting process and standards for EM service providers; and requirements for processors (first receivers) for receiving and disposing of prohibited and protected species from EM trips. This action corrects the numbering of two paragraphs in the Code of Federal Regulations. These corrections are necessary so that the implementing regulations are accurate and implement the action as intended by the Pacific Fishery Management Council (Council).

DATES: This correction is effective on July 29, 2019.

FOR FURTHER INFORMATION CONTACT: Melissa Hooper, Permits and Monitoring Branch Chief, NMFS West Coast Region, phone: 206-526-4353, fax: 206-526-4461, or email: Melissa.Hooper@noaa.gov.

SUPPLEMENTARY INFORMATION: NMFS published a final rule on June 28, 2019 (84 FR 31146), that established an EM program for the Pacific Coast groundfish fishery. That final rule is effective July 29, 2019.

Need for Correction

The June 28, 2019, final rule implemented an EM program in the Pacific Coast groundfish fishery, specifically for catcher vessels in the Pacific whiting fishery and fixed gear vessels in the shorebased groundfish IFQ fishery, and established requirements for service providers, vessel owners, vessel operators, and processors, to apply to and participate in the program. Two paragraphs in the requirements for vessel owners and operators were incorrectly numbered.

Section 660.604(h) lays out the effective dates and situations in which an EM Authorization may expire or become invalid, and how a vessel owner may apply for a new Authorization. The subordinate paragraphs should have followed in order (h)(1), (2), and (3). But paragraph (h)(3) was inadvertently numbered (h)(2)(iii). In order to clarify the order of the paragraphs, paragraph (h)(2)(iii) will be renumbered to (h)(3).

Section 660.604(p) lists the exceptions to the full retention requirement for Pacific whiting vessels while using EM. Two of the subordinate paragraphs were inadvertently numbered the same (p)(1)(iv). To clarify the order of the paragraphs, the final paragraph will be renumbered to (p)(1)(v).

All of these corrections are consistent with the Council action for the regulatory amendment to implement an EM program for the Pacific Coast groundfish fishery and are minor corrections necessary to correctly implement the Council's intent in their final action from April 2016.

Classification

Pursuant to 5 U.S.C. 553(b)(B), the Assistant Administrator for Fisheries (AA) finds there is good cause to waive prior notice and an opportunity for public comment on this action, as notice and comment would be unnecessary and contrary to the public interest. Notice and comment are unnecessary and contrary to the public interest because this action corrects minor and non-substantive errors in the June 28, 2019, final rule. Immediate notice of the errors and correction is necessary to prevent confusion among participants in the fishery that could result in issues with implementation of the requirements of the EM program. To effectively correct the errors, the changes in this action must be effective on July 29, 2019, which is the effective date of the June 28, 2019, final rule. Thus, there is not sufficient time for notice and comment due to the imminent effective date of the June 28, 2019, final rule. In addition, notice and comment is unnecessary because this document makes only minor changes to correct the final rule and does not change the substance of the rule. These corrections will not affect the results of analyses conducted to support management decisions in the Pacific Coast groundfish fishery.

For the same reasons stated above, the AA has determined that good cause exists to waive the 30-day delay in effectiveness pursuant to 5 U.S.C. 553(d). This document makes only minor corrections to the final rule which will be effective July 29, 2019. Delaying effectiveness of these corrections would result in conflicts in the regulations and confusion among fishery participants. Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

Corrections

In FR Doc. 2019-13324, appearing on page 31146 in the Federal Register of Friday, June 28, 2019, the following corrections are made:

1. On page 31166, starting at the end of the second column, § 660.604(h) is corrected to read as follows:

§ 660.604 [Corrected]

* * * * *

(h) Effective dates. (1) The EM Authorization is valid from the effective date identified on the Authorization until the expiration date of December 31. EM Authorization holders must renew annually by following the renewal process specified in paragraph (e) of this section. Failure to renew annually will result in expiration of the EM Authorization and endorsements on the Authorization expiration date.

(2) NMFS may invalidate an EM Authorization if NMFS determines that the vessel, vessel owner, and/or operator no longer meets the eligibility criteria specified at paragraph (e)(1) of this section. NMFS would first notify the vessel owner of the deficiencies in writing and the vessel owner must correct the deficiencies following the instructions provided. If the deficiencies are not resolved upon review of the first trip following the notification, NMFS will notify the vessel owner in writing that the EM Authorization is invalid and that the vessel is no longer exempt from observer coverage at §§ 660.140(h)(1)(i) and 660.150(j)(1)(i)(B) for that authorization period. The holder may reapply for an EM Authorization for the following authorization period.

(3) A vessel owner holding an expired or invalidated authorization may reapply for a new EM Authorization at any time consistent with paragraph (e) of this section.

* * * * *

2. On page 31168, in the third column, § 660.604(p)(1) is corrected to read as follows:

§ 660.604 [Corrected]

* * * * *

(p) Retention requirements—(1) Pacific whiting IFQ and MS/CV vessels. The operator of a vessel on a declared limited entry midwater trawl, Pacific whiting shorebased IFQ trip or limited entry midwater trawl, Pacific whiting mothership sector (catcher vessel or mothership) trip, EM trip must retain all fish until landing, with exceptions listed in paragraphs (p)(1)(i) through (v) of this section.

(i) Minor operational discards are permitted. Minor operational discards include mutilated fish; fish vented from an overfull codend, fish spilled from the codend during preparation for transfer to the mothership; and fish removed from the deck and fishing gear during cleaning. Minor operational discards do not include discards that result when more catch is taken than is necessary to fill the hold or catch from a tow that is not delivered.

(ii) Large individual marine organisms (i.e., all marine mammals, sea turtles, and seabirds, and fish species longer than 6 ft (1.8 m) in length) may be discarded.

(iii) Crabs, starfish, coral, sponges, and other invertebrates may be discarded.

(iv) Trash, mud, rocks, and other inorganic debris may be discarded.

(v) A discard that is the result of an event that is beyond the control of the vessel operator or crew, such as a safety issue or mechanical failure, is permitted.

* * * * *

Authority: 16 U.S.C. 1801 et seq.

Dated: July 23, 2019.
Samuel D. Rauch, III,
Deputy Assistant Administrator for Regulatory Programs, National Marine Fisheries Service.

[FR Doc. 2019-15908 Filed 7-25-19; 8:45 am]

BILLING CODE 3510-22-P